DEPARTMENT OF COMMERCE

National Oceanic and Atmospheric Administration

[I.D. 120103D]

Magnuson-Stevens Act Provisions; Atlantic Highly Migratory Species; Exempted Fishing and Scientific Research Permits

AGENCY: National Marine Fisheries Service (NMFS), National Oceanic and Atmospheric Administration (NOAA), Commerce.

ACTION: Issuance of 2004 Exempted Fishing and Scientific Research Permits; request for comments.

SUMMARY: NMFS announces the intent to issue Exempted Fishing Permits (EFPs) and Scientific Research Permits (SRPs) for the collection of Atlantic highly migratory species (HMS). These EFPs/SRPs would authorize collections of a limited number of tunas, swordfish, billfishes, and sharks from Federal waters in the Atlantic Ocean and Gulf of Mexico for the purposes of scientific data collection and public display. Generally, the EFPs/SRPs will be valid through December 31, 2004. NMFS also announces the intent to consider issuing EFPs upon receiving applications from U.S. fishermen whose vessels fish for Atlantic HMS while operating under chartering arrangements within the Exclusive Economic Zone (EEZ) of other nations to ensure consistency with another country's regulations without violating U.S. regulations.

DATES: Written comments on these collection, research and fishing activities will be considered by NMFS in issuing such EFPs/SRPs if received on or before December 24, 2003.

ADDRESSES: Send comments to Christopher Rogers, Chief, Highly Migratory Species Management Division (F/SF1), NMFS, 1315 East-West Highway, Silver Spring, MD 20910. EFP/SRP applications and copies of the regulations under which EFPs/SRPs are issued may also be requested from this address. Comments also may be sent via facsimile (fax) to (301)713-1917. Comments will not be accepted if submitted via e-mail or Internet.

FOR FURTHER INFORMATION CONTACT: Heather Stirratt or Sari Kiraly, 301-713-2347; fax: 301-713-1917.

SUPPLEMENTARY INFORMATION: EFPs and SRPs are requested and issued under the authority of the Magnuson-Stevens Fishery Conservation and Management Act (16 U.S.C. 1801 et seq.) and/or the Atlantic Tunas Convention Act (16 U.S.C. 971 et seq.). Regulations at 50 CFR 600.745 and 50 CFR 635.32 govern scientific research activity, exempted fishing, and exempted educational activity with respect to Atlantic HMS.

Issuance of EFPs and/or SRPs may be necessary because possession of certain shark species is prohibited, possession of billfishes on board commercial fishing vessels is prohibited, and because the commercial fisheries for bluefin tuna, swordfish and large coastal sharks may be closed for extended periods, during which collection of live animals and/or biological samples would otherwise be prohibited. In addition, NMFS regulations at 50 CFR 635.32 regarding implantation or attachment of archival tags in Atlantic HMS require prior authorization and a report on implantation activities.

NMFS seeks public comment on its intention to issue EFPs for the purpose of collecting biological samples under at-sea fisheries observer programs. NMFS intends to issue EFPs to any NMFS or NMFS-approved observer to bring onboard and possess, for scientific research purposes, biological sampling, measurement, etc., any Atlantic swordfish, Atlantic shark, or Atlantic billfish, provided the fish is a recaptured tagged fish, dead prior to being brought onboard, or specifically authorized for sampling by the Director of the Office of Sustainable Fisheries at the request of the Southeast Fisheries Science Center or Northeast Fisheries Science Center. On average, several hundred swordfish and sharks are collected by at-sea observers under such EFPs in any given year.

Collection of bluefin tuna may be authorized for scientific research, age and growth, genetic, and spawning studies. In 2003, five permits for bluefin tuna archival tagging and research were issued. In addition, NMFS issued 12 EFPs allowing commercial pelagic longline fishing vessels to assist NOAA scientists in conducting sea turtle bycatch reduction experiments in the Northeast Distant Waters (NED) of the Grand Banks.

NMFS is also seeking public comment on its intention to issue EFPs for the collection of restricted species of sharks for the purpose of public display. In the Final Fishery Management Plan for Atlantic Tunas, Swordfish and Sharks (HMS FMP), NMFS established a public display and research quota of 60 metric tons wet weight for this purpose. NMFS has preliminarily determined that, based on average weight of sharks landed, approximately 3,000 sharks could be taken with this current quota. The actual number of sharks that would be taken depends on the species and size of the sharks. NMFS believes that harvesting this amount for public display will have a minimal impact on the stock. In 2003, seven EFPs, which authorized the collection of 352 sharks for display purposes, were issued. The total number reported as actually taken will not be known until early 2004. However, of the 402 sharks authorized for collection in seven EFPs issued during 2002, only 37 sharks were reported taken.

Generally, the authorized collections or exemptions would involve activities otherwise prohibited by regulations implementing the HMS FMP and Amendment 1 to the Atlantic Billfish Fishery Management Plan. The EFPs, if issued, may authorize recipients to fish for and possess tunas, billfishes, swordfish, and sharks outside the applicable Federal commercial seasons, size limits and retention limits, or to fish for and possess prohibited species.

NMFS has undertaken a restructuring of the exempted fishing application and reporting procedures for Atlantic HMS. To that effect, on November 10, 2003, NMFS published a final rule (68 FR 63738) that modifies the existing regulations, with the intent of improving accountability of these fishing activities, particularly those conducted to collect sharks for public display and those undertaken for scientific research. This rule will be effective December 10, 2003.

Specifically, the final rule contains the following provisions: (1) EFP holders must notify the local NMFS Office for Law Enforcement at least 24 hours prior to departure for all fishing trips conducted to collect HMS for the purpose of public display; (2) all live HMS retained for the purpose of public display must be tagged while still on board the fishing vessel with either a conventional dart tag or a microchip Passive Integrated Transponder (PIT) tag, both of which will be supplied by NMFS; (3) if warranted, NMFS may specify conditions for conducting fishing activities to collect HMS for public display in order to minimize mortalities of either targeted or bycatch species; (4) NMFS reserves the right to place an at-sea observer on board an authorized HMS collection vessel; (5) EFP and SRP holders must report all HMS collection activities regardless of whether they occur inside or outside the EEZ; (6) negative reports must be submitted for months when no HMS are collected; (7) applicants for EFP and SRP renewals must include with the application the previous year's year-end report and any delinquent reports for permits issued in prior years, in order to obtain the new permit; and (8) prohibitions concerning the submission of false information and violations of the terms and conditions of EFPs and SRPs. Although unrelated to these provisions, the rule also addresses EFPs for the pelagic longline directed swordfish fishery, in that EFPs would no longer be required for vessels to delay offloading of swordfish when an approved vessel monitoring system (VMS) is operating on board the vessel.

Comments are also requested for the issuance of EFPs to vessels fishing for HMS while operating under chartering arrangements within the EEZ of other nations. These EFPs would allow a U.S. fishing vessel to fish so as to be consistent with another country's regulations without violating U.S. regulations, and would ensure that such vessels report to the proper authorities. To date, however, NMFS has not received requests for such EFPs.

Also in November 2003, NMFS published the Final Amendment 1 to the Fishery Management Plan for Atlantic Tunas, Swordfish and Sharks. While the Amendment focuses primarily on shark management measures, the issuance of EFPs and SRPs is addressed in that a separate display permitting system for HMS is to be developed apart from EFPs and SRPs issued for other purposes. This is an administrative change only, and current quotas as well as application and reporting requirements remain as established under the existing system. This provision may be implemented in a final rule that will likely be published in mid December 2003.

Final decisions on the issuance of any EFPs/SRPs will depend on the submission of all required information about the proposed activities, NMFS' review of public comments received on this notice, consistency with conclusions in the Final Environmental Impact Statement (EIS) contained in the Final HMS FMP (64 FR 13575; March 19, 1999), Environmental Assessments (EAs) or EISs, and any consultations with any appropriate Regional Fishery Management Councils, states, or Federal agencies. NMFS does not anticipate any environmental impacts from the issuance of these EFPs other than impacts already assessed in the Final HMS FMP.

Authority: 16 U.S.C. 971 et seq. and 16 U.S.C. 1801 et seq.

Dated:December 3, 2003.
Bruce C. Morehead,
Acting Director, Office of Sustainable Fisheries, National Marine Fisheries Service.

[FR Doc. 03-30487 Filed 12-8-03; 8:45 am]

BILLING CODE 3510-22-S